DEPARTMENT OF ENERGY

Federal Energy Regulatory Commission

Notice of Transfer of License and Soliciting Comments, Protests, and Motions To Intervene

July 26, 2001.

Take notice that the following hydroelectric application has been filed with the Commission and is available for public inspection:

a. Application Type: Transfer of License.

b. Project No: 2004-104.

c. Date Filed: July 17, 2001.

d. Applicants: Holyoke Water Power Company (HWP) and the City of Holyoke Gas & Electric Department (HG&E)

e. Name and Location of Project: The Holyoke Hydroelectric Project is located on the Connecticut River in Hampden County, Massachusetts. The project does not occupy federal or tribal land.

f. Filed Pursuant to: Federal Power Act, 16 U.S.C. 791(a)-825(r).

g. Applicant Contacts: For HWP: Mr. James B. Vasile, Davis Wright Tremaine LLP, Suite 450, 1500 K Street, NW., Washington, DC 20005, (202) 508-6600. For HG&E: Mr. Ben Finklestein, Spiegel & McDiarmid, 1350 New York Avenue, NW., Suite 1100, Washington, DC 20005, (202) 879-4000.

h. FERC Contact: James Hunter, (202) 219-2839.

i. Deadline for filing comments, protests, and motions to intervene: August 24, 2001.

All documents (original and eight copies) should be filed with: David P. Boergers, Secretary, Federal Energy Regulatory Commission, 888 First Street, NE., Washington DC 20426. Comments, protests, and motions to intervene may be filed electronically via the internet in lieu of paper. See, 18 CFR 385.2001(a)(1)(iii) and the instructions on the Commission's web site at http://www.ferc.fed.us/efi/doorbell.htm under the “e-Filing” link. Please include the project number (P-2004-104) on any comments or motions filed.

j. Description of Proposal: The applicants request approval of a transfer of the license for Project No. 2004 from HWP to HG&E. This transfer is being sought in connection with a proposed sale of the Holyoke Hydroelectric Project to HG&E as part of a Settlement Agreement between HWP and HG&E, dated June 7, 2001.

k. Locations of the application: Copies of this filing are on file with the Commission and are available for public inspection. This filing may be viewed on the Commission's web site at http://www.ferc.gov using the “RIMS” link, select “Docket #” and follow the instructions ((202) 208-2222 for assistance). Comments, protests and interventions may be filed electronically via the Internet in lieu of paper. See, 18 CFR 385.2001(a)(1)(iii) and the instructions on the Commission's web site under the “e-Filing” link. A copy is also available for inspection and reproduction at the addresses in item g above.

l. Individuals desiring to be included on the Commission's mailing list should so indicate by writing to the Secretary of the Commission.

Comments, Protests, or Motions to Intervene—Anyone may submit comments, a protest, or a motion to intervene in accordance with the requirements of Rules of Practice and Procedure, 18 CFR 385.210, 385.211, 385.214. In determining the appropriate action to take, the Commission will consider all protests or other comments filed, but only those who file a motion to intervene in accordance with the Commission's Rules may become a party to the proceeding. Any comments, protests, or motions to intervene must be received on or before the specified comment date for the particular application.

Filing and Service of Responsive Documents—Any filings must bear in all capital letters the title “COMMENTS”, “PROTEST”, or “MOTION TO INTERVENE”, as applicable, and the Project Number of the particular application to which the filing refers. An additional copy must be sent to the Director, Division of Hydropower Administration and Compliance, Federal Energy Regulatory Commission, at the above-mentioned address. A copy of any motion to intervene must also be served upon each representative of the Applicant specified in the particular application.

Agency Comments—Federal, state, and local agencies are invited to file comments on the described application. A copy of the application may be obtained by agencies directly from the Applicant. If an agency does not file comments within the time specified for filing comments, it will be presumed to have no comments. One copy of an agency's comments must also be sent to the Applicant's representatives.

Linwood A. Watson, Jr.,
Acting Secretary.

[FR Doc. 01-19136 Filed 7-31-01; 8:45 am]

BILLING CODE 6717-01-P